DEPARTMENT OF DEFENSE

Department of the Army

[Docket ID: USA-2024-HQ-0015]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Application for Survivor Access Card; IMCOM Form 44; OMB Control Number 0702-0152.

Type of Request: Extension.

Number of Respondents: 670.

Responses per Respondent: 1.

Annual Responses: 670.

Average Burden per Response: 1 hour.

Annual Burden Hours: 670.

Needs and Uses: In accordance with AR 190-13, the Army Physical Security Program permits surviving family members to have unescorted access to Army installations via the Survivor Access Card, in order for them to receive services, attend events, view memorials, and similar activities. Eligible survivors are those who meet the eligibility criteria to receive the Gold Star Lapel Button or Next of Kin Lapel Button. Eligible survivors must first contact the installation level Survivor Outreach Services (SOS) support coordinator to verify eligibility and coordinate issuance of an installation access credential. The application for Survivor Access Card (IMCOM Form 44) is obtained by eligible surviving family members from SOS staff members. Eligible family members complete the form to obtain the Survivor Access Card which grants survivors ease of access to military installations.

Affected Public: Individuals or households.

Frequency: On occasion.

Respondent's Obligation: Voluntary.

DOD Clearance Officer: Mr. Reginald Lucas.

Dated: January 3, 2025.
Aaron T. Siegel,
Alternate OSD Federal Register Liaison Officer, Department of Defense.

[FR Doc. 2025-00280 Filed 1-8-25; 8:45 am]

BILLING CODE 6001-FR-P